DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Business R&D and Innovation Survey.

Form Number(s): BRDI-1, BRDI-1A.

OMB Control Number: 0607-0912.

Type of Request: Revision of a currently approved collection.

Burden Hours: 130,855.

Number of Respondents: 43,000.

Average Hours per Response: 3 hours.

Needs and Uses: The National Science Foundation Act of 1950 as amended authorizes and directs NSF “* * * to provide a central clearinghouse for the collection, interpretation, and analysis of data on scientific and engineering resources and to provide a source of information for policy formulation by other agencies of the Federal government.” The Business R&D and Innovation Survey (BRDIS) is the vehicle with which NSF carries out the business portion of this mandate. NSF together with the Census Bureau, the collecting and compiling agent, analyze the data and publish the resulting statistics.

Companies are the major performers of research and development (R&D) in the United States, accounting for over 70 percent of total U.S. R&D outlays each year. A consistent business R&D information base is essential to government officials formulating public policy, industry personnel involved in corporate planning, and members of the academic community conducting research. To develop policies designed to promote and enhance science and technology, past trends and the present status of R&D must be known and analyzed. Without comprehensive business R&D statistics, it would be impossible to evaluate the health of science and technology in the United States or to make comparisons between the technological progress of our country and that of other nations.

NSF has published annual R&D statistics collected from the Survey of Industrial Research and Development (1953-2007) and BRDIS (2008-2010) for more than 50 years. The results of the survey are used to assess trends in R&D expenditures by industry sector, investigate productivity determinants, formulate science and tax policy, and compare individual company performance with industry averages. This survey is the Nation's primary source for international comparative statistics on business R&D spending.

The 2011 BRDIS will continue to collect the following types of information:

• R&D expense based on accounting standards.

• Worldwide R&D of domestic companies.

• Business segment detail.

• R&D related capital expenditures.

• Detailed data about the R&D workforce.

• R&D strategy and data on the potential impact of R&D on the market.

• R&D directed to application areas of particular national interest.

• Data measuring innovation, intellectual property protection activities and technology transfer.

The following changes will be made to the 2011 BRDIS from the 2010 BRDIS.

• Section 7: R&D Time Frame and R&D Product Life will be deleted. This section was only collected in 2010 at the request of the Bureau of Economic Analysis.

• The 2011 BRDIS will only have one short form (BRDI-1A). The 2010 BRDIS included two versions of the short form to conduct a test on the innovation data collection.

Starting in 2009, BRDIS decreased the number of long forms mailed from approximately 5,000 to 3,000. This was done based on a study done during the processing of the 2008 BRDIS pilot. The data showed that the imputation rate on the key data variables would not be significantly impacted by reducing the number of long forms for the details that are only collected on the long forms. Also, R&D activity in the U.S. is highly concentrated to a relatively small number of large firms so the potential benefit in the reduction of burden was deemed to outweigh the need to collect all of the detail from smaller R&D performing firms.

Policy officials from many Federal agencies rely on these statistics for essential information. For example, total U.S. R&D expenditures statistics have been used by the Bureau of Economic Analysis (BEA) to update the System of National Accounts and, in fact, the BEA recently has established a separate R&D satellite account in the System. Accurate R&D data are needed to continue the development and effect subsequent updates to this detailed satellite account. Also, a data linking project has been designed to augment the Foreign Direct Investment (FDI) data collected by BEA. The initial attempt to link the SIRD data with BEA's FDI benchmark files was successful, and plans now call for the annual linkage of the R&D data to the Foreign Direct Investment (FDI) and U.S. Direct Investment Abroad (USDIA) data. Further, the Census Bureau links data collected by the Survey with other statistical files. At the Census Bureau, historical company-level R&D data are linked to a file that contains information on the outputs and inputs of companies' manufacturing plants. Researchers are able to analyze the relationships between R&D funding and other economic variables by using micro-level data.

Many individuals and organizations access the survey statistics via the Internet and hundreds have asked to have their names placed on the mailing list for a paper copy of the annual SRS InfoBrief that announces the availability of statistics from each cycle of the Survey. Information about the kinds of projects that rely on statistics from the Survey is available from internal records of NSF's Division of Science Resources Statistics (SRS). In addition, survey statistics are regularly printed in trade publications and many researchers use the survey statistics from these secondary sources without directly contacting NSF or the Census Bureau.

Affected Public: Business or other for-profit organizations.

Frequency: Annually.

Respondent's Obligation: Mandatory.

Legal Authority: Title 13 U.S.C., Sections 182, 224, and 225.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 17, 2011.
Gwellnar Banks,
Management Analyst, Office of the Chief Information Officer.

[FR Doc. 2011-27254 Filed 10-20-11; 8:45 am]

BILLING CODE 3510-07-P